DEPARTMENT OF HEALTH AND HUMAN SERVICES

Centers for Disease Control and Prevention

[60 Day-11-11BH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol Walker, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Division of Behavior Surveillance (DBS) Gulf States Population Survey—New—Public Health Surveillance Program Office (PHSPO), Office of Surveillance, Epidemiology, and Laboratory Services (OSELS), Centers for Disease Control and Prevention (CDC).

Background and Brief Description

On April 20, 2010, the BP Deepwater Horizon oil rig exploded in the Gulf of Mexico spilling more than 4.9 million barrels of oil into the Gulf. The lives and livelihoods of persons residing in the Gulf coastal communities were affected by this event due to loss of work, disruption in the fishing and tourism industries, and the effect on the physical environment in which they live.

An ongoing public health concern following the spill is the effect on the mental and behavioral health of populations living in and around the Gulf region and access to the mental health services required to meet that need.

On October 7, 2010 the Office of Management and Budget (OMB) granted emergency clearance (OMB control # 0920-0868, expiration date April 30, 2011) to CDC's Public Health Surveillance Program Office (PHSPO), Division of Behavioral Surveillance (DBS) to conduct a survey to monitor the mental and behavioral health status of this affected population. Data collection for the DBS Gulf States Population Survey began on December 14, 2010 and will continue monthly for a one-year period. No data was collected from October 2010 to December 2010, because the sampling and data collecting contracts were pending receipt of funding.

Using the existing capacity and infrastructure of the Behavioral Risk Factor Surveillance System (BRFSS), DBS implemented a standalone survey designed to monitor mental and behavioral health indicators in the adult population in selected coastal counties affected by the oil spill. The survey includes health related questions taken from the ongoing BRFSS as well as additional questions taken from standardized scales or from other surveys designed to measure anxiety, depression, and potential stress-associated physical health effects.

The survey questionnaire was developed by DBS in partnership with the Substance Abuse and Mental Health Services Administration (SAMHSA) and state public health and mental health departments from Louisiana, Mississippi, Alabama, and Florida, where the survey is being conducted.

Coastal counties within 32 miles of an area where fishing was closed due to the Deepwater Horizon Event were selected for inclusion. These include the following Gulf coast counties:

Louisiana: Assumption Parish, Calcasieu Parish, Cameron Parish, Iberia Parish, Jefferson Parish, Jefferson Davis Parish, Lafourche Parish, Orleans Parish, Plaquemines Parish, St. Bernard Parish, St. Charles Parish, St. Mary Parish, St. Tammany Parish, Tangipahoa Parish, Terrebonne Parish, Vermilion Parish.

Mississippi: Hancock County, Harrison County, Jackson County.

Alabama: Baldwin County, Mobile County.

Florida: Escambia County, Okaloosa County, Santa Rosa County, Walton County.

The objective of the survey is to provide state health and mental health departments, SAMHSA, and other appropriate organizations data they need to assess the need for mental and behavioral health services in the selected counties and to inform the provision of those services.

The telephone survey will collect data from a random sample of households with land-line telephones in the selected counties. Approximately 2,500 interviews will be completed each month. Adults 18 years or older will be asked to take part in the survey, but only one adult per household will be interviewed. Potential respondents will be notified through an introductory script that participation is voluntary and they will not be compensated for participating. For those who agree to participate, interviews should last approximately 20-25 minutes.

Since the OMB emergency clearance for the DBS Gulf States Population Survey expires April 30, 2011, DBS is submitting an information collection request (ICR) for the portion of the data collection (May-December, 2011) that is not covered by the OMB emergency clearance approval.

Preliminary data from the survey will be available to SAMHSA and participating states monthly (pending sample size). The final dataset and analyses will be provided to SAMHSA and participating states in January 2012.

There is no cost to respondents other than their time.

Estimated Annualized Burden Hours
Respondents | Number of respondents | Number responses per respondent | Average burden per response (in hours) | Total burden hours
Individuals/telephone interviews | 30,000 | 1 | .5 | 15,000

Catina Conner,
Acting Reports Clearance Officer, Centers for Disease Control and Prevention.

[FR Doc. 2010-31980 Filed 12-20-10; 8:45 am]

BILLING CODE 4163-18-P